DEPARTMENT OF THE TREASURY

Internal Revenue Service

Proposed Collection; Comment Request for Affordable Care Act Internal Claims and Appeals and External Review Disclosures

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning the Affordable Care Act internal claims and appeals and external review disclosures.

DATES: Written comments should be received on or before October 3, 2022 to be assured of consideration

ADDRESSES: Direct all written comments to Andres Garcia, Internal Revenue Service, Room 6526, 1111 Constitution Avenue NW, Washington, DC 20224, or by email to pra.comments@irs.gov. Include OMB control number 1545-2182 or Affordable Care Act Internal Claims and Appeals and External review Disclosures, in the subject line of the message.

FOR FURTHER INFORMATION CONTACT: Requests for additional information or copies of the form should be directed to Kerry Dennis at (202) 317-5751, or at Internal Revenue Service, Room 6526, 1111 Constitution Avenue NW, Washington DC 20224, or through the internet, at Kerry.L.Dennis@irs.gov.

SUPPLEMENTARY INFORMATION:

Title: Affordable Care Act Internal Claims and Appeals and External review Disclosures.

OMB Number: 1545-2182.

Regulation Number: T.D. 9494 and T.D. 9955.

Abstract: This collection of information request includes the information collection and third- party notice and disclosure requirements that a plan must satisfy under final regulations implementing provisions of the Affordable Care Act pertaining to internal claims and appeals, and the external review process. The No Surprise Act extends the balance billing protections related to external reviews to grandfathered plans. The definitions of group health plan and health insurance issuer that are cited in section 110 of the No Surprises Act include both grandfathered and non-grandfathered plans and coverage. Accordingly, the practical effect of section 110 of the No Surprises Act is that grandfathered health plans must provide external review for adverse benefit determinations involving benefits subject to these surprise billing protections. Grandfathered and non-grandfathered plans must provide claimants, free of charge, any new or additional evidence considered, relied upon, or generated by the plan or issuer in connection with the claim, and the requirement to comply either with a State external review process or a Federal review process. The disclosure requirements of the Federal external review process require (1) a preliminary review by plans of requests for external appeals; (2) Independent Review Organizations (IROs) to notify claimants of eligibility and acceptance for external review; (3) the plan or issuer to provide IROs with documentation and other information considered in making adverse benefit determination; (4) the IRO to forward to the plan or issuer any information submitted by the claimant; (5) plans to notify the claimant and IRO if it reverses its decision; (6) the IRO to notify the claimant and plan of the result of the final external appeal; (7) the IRO to maintain records for six years.

Current Actions: There is a change to the paperwork burden previously approved by OMB. Adjustments to the burden estimates result from updated estimates on the number of ERISA-covered plans and policyholders.

Type of Review: Extension of a currently approved collection.

Affected Public: Businesses or other for-profits, Not-for-profit institutions.

Group Health Plans Internal Claims and Appeals and External Review Processes

Estimated Number of Respondents: 314,560.

Estimated Time per Respondent: .5 hours.

Estimated Total Annual Burden Hours: 14,432 hours.

Procedures for Federal External Review and Model Notices Relating to Internal Claims and Appeals and External Review Under the Patient Protection and Affordable Care Act

Estimated Number of Respondents: 76,014.

Estimated Total Annual Burden Hours: .4 hours.

Estimated Number of Respondents: 4,615.

Total Estimated Time per Respondent: 390,574.

Total Estimated Annual Burden Hours: 19,047 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: August 2, 2022.
Kerry L. Dennis,
Tax Analyst.

[FR Doc. 2022-16856 Filed 8-4-22; 8:45 am]

BILLING CODE 4830-01-P